GENERAL SERVICES ADMINISTRATION

[OMB Control No. 3090-0121]

Submission for OMB Review; Comment Request Entitled Contractor's Report of Sales

AGENCY: General Services Administration (GSA).

ACTION: Notice of request for public comments regarding extensino of an existing OMB clearance.

SUMMARY: Under the provisions of the Paperwork Reduction Act of 1995 (44 U.S.C. Chapter 35), the General Services Administration (GSA) has submitted to the Office of Management and Budget (OMB) a request to review and approve an extension of a currently approved information collection requirement concerning Contractor's Report of Sales. A request for public comments was published at 66 FR 37233, July 17, 2001. No comments were received.

DATES: Comments must be submitted on or before November 19, 2001.

ADDRESSES: Comments regarding this burden estimate or any other aspect of this collection of information, including suggestions for reducing this burden, should be submitted to: Ed Springer, GSA Desk Officer, OMB, Room 10236, NEOB, Washington, DC 20503, and a copy to Stephanie Morris, General Services Administration, Regulatory Secretariat, 1800 F Street, NW., Room 4035, Washington, DC 20405.

FOR FURTHER INFORMATION CONTACT: Beverly Cromer, Acquisition Policy Division, GSA (202) 501-1224.

SUPPLEMENTARY INFORMATION:

A. Purpose

The General Services Administration is requesting the Office of Management and Budget (OMB) to review and approve information collection, 3090-0121, concerning Contractor's Report of Sale. The information is used primarily by contracting officers to estimate requirements for the subsequent year, evaluate the effectiveness of a schedule, negotiate better prices based on volume and for special reports.

B. Annual Report Burden

Number of Respondents: 9,214.

Total Annual Responses: 184,280.

Percentage of these responses collected electronically: 100.

Average hours per response: .0083 hrs.

Total Burden Hours: 1530.

Obtaining Copies of Proposals

Requester may obtain a copy of the proposal from the General Services Administration, Regulatory Secretariat (MVP), 1800 F Street, NW., Room 4035, Washington, DC 20405, or by telephoning (202) 501-4744, or by faxing your request to (202) 501-4067. Please cite OMB Control No. 3090--121, Contractor's Report of Sales, in all correspondence.

Dated: October 11, 2001.
Al Matera,
Director, Acquisition Policy Division.

[FR Doc. 01-26291 Filed 10-17-01; 8:45 am]

BILLING CODE 6820-34-M